DEPARTMENT OF TRANSPORTATION

Research and Special Programs Administration

49 CFR Parts 107, 171, 172, 173, 177, 178, and 180

[Docket No. RSPA-98-3554 (HM-213)]

RIN 2137-AC90

Hazardous Materials: Requirements for Cargo Tanks; Correction and Extension of Comment Period

AGENCY: Research and Special Programs Administration (RSPA), DOT.

ACTION: Proposed rule; correction and extension of comment period.

SUMMARY: On December 4, 2001, RSPA published a notice of proposed rulemaking to update and clarify the regulations on the construction and maintenance of cargo tank motor vehicles. In response to requests by members of the regulated community, the comment period for the proposed rule is extended until April 4, 2002, to provide commenters additional time. In addition, we are correcting a minor citation error in the proposed regulatory text.

DATES: Submit comments by April 4, 2002. To the extent possible, we will consider comments received after this date in making our decision on a final rule.

ADDRESSES: Submit comments to the Dockets Management System, U.S. Department of Transportation, Room PL 401, 400 Seventh Street, SW., Washington, DC 20590-0001. Comments should identify Docket Number RSPA-98-3554 (HM-213), and be submitted in two copies. If you wish to receive confirmation of receipt of your written comments, include a self-addressed, stamped postcard. You may also e-mail comments by accessing the Dockets Management System web site at “http://dms.dot.gov/” and following the instructions for submitting a document electronically. If you prefer, you can fax comments to 202-493-2251 for filing in the docket.

The Dockets Management System is located on the Plaza level of the Nassif Building at the Department of Transportation at the above address. You can review public dockets there between the hours of 9 a.m. and 5 p.m., Monday through Friday, except federal holidays. You can also review comments on-line at the DOT Dockets Management System web site at “http://dms.dot.gov/.”

We are experiencing some delays in mail deliveries as a result of ongoing efforts to ensure that mail is not contaminated with infectious or harmful materials. We encourage you to take advantage of the opportunities provided by the DOT Dockets Management System to submit comments electronically or by fax.

FOR FURTHER INFORMATION CONTACT: Michael Johnsen (202) 366-8553, Office of Hazardous Materials Standards, Research and Special Programs Administration.

SUPPLEMENTARY INFORMATION:

Background

On December 4, 2001, the Research and Special Programs Administration (RSPA, we) published a notice of proposed rulemaking (NPRM) (66 FR 63096) under Docket RSPA-98-3554 (HM-213) to update and clarify the regulations on the construction and maintenance of cargo tank motor vehicles. The proposed rule also addressed three National Transportation Safety Board (NTSB) recommendations and several petitions for rulemaking.

Under 49 Code of Federal Regulations (CFR) 1.73(d), the Federal Motor Carrier Safety Administration (FMCSA) is delegated authority to enforce the Hazardous Materials Regulations (HMR; 49 CFR parts 171-180) , with particular emphasis on highway transportation, including regulations for construction and maintenance of cargo tank motor vehicles. FMCSA and RSPA work closely with the regulated industry through educational assistance activities and FMCSA's compliance and enforcement program. During these activities, we identified several areas in the current regulations that need updating or clarification. In addition, we received requests for clarification of the regulations and petitions for rulemaking. NTSB has also made several safety recommendations concerning cargo tank motor vehicles. In the NPRM, we proposed revisions that would apply to all cargo tank motor vehicles, and revisions that would apply to certain specification cargo tank motor vehicles used to transport certain ladings.

On December 27, 2001, the Truck Trailer Manufacturers Association (TTMA) requested an extension of the comment period (closing date of February 4, 2002). TTMA requested the extension because the TTMA Tank Conference Engineering Committee will be meeting February 26-27, 2002, in Los Angeles, CA to discuss a number of issues addressed in docket HM-213. TTMA asked for additional comment time to properly acknowledge all of its members' thoughts and concerns. In addition, on January 11, 2002, a representative of the National Propane Gas Association, National Tank Truck Carriers, Inc., Petroleum Marketers Association of America, and the Petroleum Transportation and Storage Association requested an extension of the comment period to allow for detailed analysis. RSPA agrees that extending the comment period on this technically complex rulemaking is in the public interest because it will assure thorough consideration of the proposals by all affected entities. Therefore, we are extending the comment period to April 4, 2002.

In addition, we discovered an incorrect reference in the NPRM. On page 63122, under the proposed regulatory text language for § 180.405 (o)(1), the reference “§ 178.337-11(a)(2)” should read “§ 178.337-8(a)(4).”

Accordingly, the HM-213 NPRM is corrected as follows:

Correction

PART 180—[CORRECTED]

§ 180.405 [Corrected]

In proposed rule FR Doc. 01-28117, beginning on page 63096 in the issue of December 4, 2001, make the following correction to the proposed regulatory text:

On page 63122, in the third line of column 3, in § 180.405(o)(1), correct § 178.337-11(a)(2)” to read “§ 178.337-8(a)(4)”.

Issued in Washington, DC on January 29, 2002 under authority delegated in 49 CFR part 106.
Robert A. McGuire,
Associate Administrator for Hazardous Materials Safety, Research and Special Programs Administration.

[FR Doc. 02-2515 Filed 1-31-02; 8:45 am]

BILLING CODE 4910-60-P